DEPARTMENT OF HEALTH AND HUMAN SERVICES

Centers for Disease Control and Prevention

[60Day-14-0621]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

National Youth Tobacco Survey (NYTS) 2015-2017 (OMB No. 0920-0621, expires 01/31/2015)—Revision— National Center for Chronic Disease Prevention and Health Promotion (NCCDPHP), Centers for Disease Control and Prevention (CDC).

Background and Brief Description

Tobacco use is a major preventable cause of morbidity and mortality in the U.S. A limited number of health risk behaviors, including tobacco use, account for the overwhelming majority of immediate and long-term sources of morbidity and mortality. Because the majority of tobacco users begin using tobacco before the age of 18, there is a critical need for public health programs directed towards youth, and for information to support these programs.

Since 2004, the CDC has periodically collected information about tobacco use among adolescents (NYTS 2004, 2006, 2009, 2011, 2012, 2013, 2014 OMB no. 0920-0621, exp. 01/31/2015). This surveillance activity builds on previous surveys funded by the American Legacy Foundation in 1999, 2000, and 2002.

At present, the NYTS is the most comprehensive source of nationally representative tobacco data among students in grades 9-12, moreover, the NYTS is the only source of such data for students in grades 6-8. The NYTS has provided national estimates of tobacco use behaviors, information about exposure to pro- and anti-tobacco influences, information about racial and ethnic disparities in tobacco-related topics, and most recently, estimates of use of emerging products such as water pipes (hookahs) and electronic cigarettes (e-cigarettes). Information collected through the NYTS is used to identify trends over time, to inform the development of tobacco cessation programs for youth, and to evaluate the effectiveness of existing interventions and programs.

CDC plans to request OMB approval to conduct additional cycles of the NYTS in 2015, 2016, and 2017. The survey will be conducted among nationally representative samples of students attending public and private schools in grades 6-12, and will be administered to students as an optically scannable, eight-page booklet of multiple-choice questions. Information supporting the NYTS also will be collected from state-, district-, and school-level administrators and teachers. During the 2015-2017 timeframe, a number of changes will be incorporated that reflect the collaboration between CDC and the Food and Drug Administration that has been ongoing since 2011 to assist the agency with measuring progress toward meeting strategic goals established by the Family Smoking Prevention and Tobacco Control Act. The 2015 survey will examine the following topics: Use of cigarettes, smokeless tobacco, cigars, pipes, bidis, snus, hookahs, electronic vapor products, and dissolvable tobacco products; knowledge and attitudes; media and advertising; access to tobacco products; secondhand smoke exposure; and cessation. Given the dynamic nature of the tobacco control environment, particularly related to youth, it may be necessary in the future to make additional requests to OMB for changes in the NYTS instruments to reflect the varying landscape.

Results of the NYTS will continue to be used for public health program planning and evaluation. Information collected through the NYTS is expected to provide measures and data for monitoring progress on one of the 20 tobacco-related objectives for Healthy People 2020 and serve as complementary data for five other tobacco-related objectives.

OMB approval will be requested for three years. Changes described in the Revision request include changes to instrument content, a decrease in the average annualized number of respondents, and a decrease in the average annualized burden hours. There are no changes in the estimated burden per response for any type of respondent. Participation is voluntary and there are no costs to respondents other than their time.

Estimated Annualized Burden Hours
Type of respondent | Form name | Number of respondents | Number of responses per respondent | Average burden per response (in hours) | Total burden hours
State Administrators | State-level Recruitment Script for the NYTS | 35 | 1 | 30/60 | 18
District Administrators | District-level Recruitment Script for the NYTS | 150 | 1 | 30/60 | 75
School Administrators | School-level Recruitment Script for the NYTS | 220 | 1 | 30/60 | 110
Teachers | Data Collection Checklist for the NYTS | 973 | 1 | 15/60 | 243
Students | National Youth Tobacco Survey | 20,077 | 1 | 45/60 | 15,058
Total |  |  |  |  | 15,504

Leroy Richardson,
Chief, Information Collection Review Office, Office of Scientific Integrity, Office of the Associate Director for Science, Office of the Director, Centers for Disease Control and Prevention.

[FR Doc. 2014-14789 Filed 6-24-14; 8:45 am]

BILLING CODE 4163-18-P